DEPARTMENT OF COMMERCE

National Oceanic and Atmospheric Administration

[Docket Number: 120301149-2149-01]

Request for Comments on the 5-Year Review of NOAA's Policy on Partnerships in the Provision of Environmental Information

AGENCY: National Weather Service (NWS), National Oceanic and Atmospheric Administration (NOAA), Department of Commerce (DOC).

ACTION: Notice and request for comments.

SUMMARY: The National Weather Service of the National Oceanic and Atmospheric Administration publishes this notice to request comments on NOAA's Policy on Partnerships in the Provision of Environmental Information. This request for comments is being made as part of a period periodic review of the Policy's effectiveness.

DATES: Comments must be received by 5 p.m. (EDT), April 30, 2012.

ADDRESSES: Electronic comments are preferred. A webform for comments is available at: http://www.nws.noaa.gov/survey/policy_partnerships_comments.php.

Written comments may be mailed in hard copy to the following address: Partnership Policy Comments, U.S. Department of Commerce, NOAA 1325 East-West Highway, Room 17205, Silver Spring, MD 20910.

A copy of NOAA's Policy on Partnerships in the Provision of Environmental Information as well as a complete history can be found on the NOAA Web site at: http://www.noaa.gov/partnershippolicy/.

FOR FURTHER INFORMATION CONTACT: Jennifer Sprague, 301-713-0217.

SUPPLEMENTARY INFORMATION: The National Weather Service of the National Oceanic and Atmospheric Administration (NOAA) is undertaking a review of NOAA's Policy on Partnerships in the Provision of Environmental Information. This Policy applies to the weather, water, climate and related environmental information services of the National Oceanic and Atmospheric Administration. It sets forth basic principles to be applied in making decisions regarding these information services. The Policy is intended to strengthen the existing partnership between government, academia and the private sector, which is a partnership that provides the nation with high quality weather, water, climate and related environmental information.

The Policy calls for a periodic review of its effectiveness, and NOAA is seeking public comments to aid in this review.

Dated: March 2, 2012.
David Murray,
Director, Management and Organizational Division, Office of the Chief Financial Officer, National Weather Service, National Oceanic and Atmospheric Administration.

[FR Doc. 2012-5544 Filed 3-6-12; 8:45 am]

BILLING CODE 3510-KE-P